DEPARTMENT OF HEALTH AND HUMAN SERVICES

Administration for Children and Families

Administration on Children, Youth and Families

AGENCY: Family and Youth Services Bureau, ACYF, ACF, HHS.

ACTION: Notice to Award Five Expansion Supplement Grants.

CFDA Number: 93.592.

Legislative Authority: The Family Violence Prevention and Services Act, 42 U.S.C. 10401 through 10421, as extended by the Department of Health and Human Services Appropriations Act, 2009, Public Law 111-8.

Total Amount of Awards: $400,000.

Project Period: September 30, 2009—September 29, 2010.

SUMMARY: This notice announces the award of expansion supplement grants to five grantees under the Family and Youth Services Bureau (FYSB)/Family Violence Prevention and Services Program. Expansion supplement awards are made to four technical assistance (TA) providers to support their capacity to enhance victim services by providing more extensive TA to local domestic violence programs and State domestic violence coalitions under the Open Doors to Safety: Capacity-Building Grant (Capacity-Building) project. The supplemental funds, coupled with the TA providers' expertise, will enable Open Doors Safety Capacity-Building project grantees to receive more training and site-specific consultation, so that they may build program capacity. The awards will also support State-level collaboration between domestic violence organizations and child welfare agencies. These combined efforts will strengthen the ability of domestic violence programs and their partners to better serve survivors who have diverse backgrounds, experiences, and abilities.

Technical assistance provider organizations | Amount of award | Location
Family Violence Prevention Fund | $175,000 | San Francisco, CA.
Domestic Abuse Intervention Programs | 50,000 | Minneapolis, MN.
Hektoen Institute, LLC | 50,000 | Chicago, IL.
National Network to End Domestic Violence | 100,000 | Washington, DC.

A $25,000 expansion supplement grant is awarded to the Institute on Domestic Violence in the African American Community (IDVAAC), Minneapolis, MN, for the period of July 1, 2009 through September 30, 2009, to support development of conference materials, a scholarly publication on healing after domestic violence, and conference scholarships.

Contact for Further Information: Marylouise Kelley, Ph.D., Director, Family Violence Prevention and Services Program, 1250 Maryland Avenue, SW., Suite 8216, Washington, DC, 20024. Telephone: 202-104-5756 E-mail: Marylouise.kelley@acf.hhs.gov.

Dated: September 28, 2009.
Maiso L. Bryant,
Acting Commissioner, Administration on Children, Youth and Families.

[FR Doc. E9-23922 Filed 10-2-09; 8:45 am]

BILLING CODE P